FEDERAL COMMUNICATIONS COMMISSION

47 CFR Part 73

[DA 02-919; MB Docket No. 02-79, RM-10424]

Radio Broadcasting Services; Park City and Miles City, MT, and Powell and Byron, WY

AGENCY: Federal Communications Commission.

ACTION: Proposed rule.

SUMMARY: This document proposes four changes in the FM Table of Allotments in Park City and Miles City, MT and Powell and Byron, WY. The Commission requests comment on a petition filed by Chaparral Broadcasting, Inc., licensee of Station KLZY(FM), Powell, Wyoming, proposing the reallotment of Channel 223C from Powell to Park City, Montana, as potentially Park City's first local aural broadcast service, and downgrade of the channel allotment to 223C0. In order to facilitate that reallotment, petitioner proposes to substitute Channel 222C for Channel 223C at Miles City, Montana. Channel 222C can be allotted to Miles City in compliance with the Commission's minimum distance separation requirements at the current site location for Station KKRY(FM), now operating on Channel 223C at reference coordinates of 46-24-04 North Latitude and 105-39-06 West Longitude; accordingly, the licensee of KKRY was ordered to show cause why its license should not be changed to specify operation on Channel 222C in lieu of Channel 223C. With that substitution, Channel 223C0 can be allotted to Park City in compliance with the Commission's minimum distance separation requirements with a site restriction of 23.8 km (14.8 miles) southeast of Park City at reference coordinates of 45-32-24 North Latitude and 108-38-34 West Longitude. Petitioner also proposes the allotment of Channel 221C to Byron, Wyoming, as a first local aural service. Channel 221C could be allotted to Byron in compliance with the Commission's minimum distance separation requirements with a site restriction of 44.7 km (27.7 miles) southwest of Byron at reference coordinates of 44-38-08 North Latitude and 109-01-20 West Longitude.

DATES: Comments must be filed on or before June 10, 2002, and reply comments on or before June 25, 2002.

ADDRESSES: Federal Communications Commission, Washington, DC 20554. In addition to filing comments with the FCC, interested parties should serve the petitioner as follows: David Tillotson, Law Offices of David Tillotson, 4606 Charleston Terrace, NW, Washington, DC 20007-1911.

FOR FURTHER INFORMATION CONTACT: Deborah A. Dupont, Media Bureau (202) 418-2180.

SUPPLEMENTARY INFORMATION: This is a synopsis of the Commission's Notice of Proposed Rule Making and Order to Show Cause, MB Docket No. 02-79; adopted April 10, 2002 and released April 19, 2002. The full text of this Commission decision is available for inspection and copying during normal business hours in the FCC Reference Information Center (Room CY-A257), 445 12th Street, SW, Washington, DC. The complete text of this decision may also be purchased from the Commission's copy contractor, Qualex International, Portals II, 445 12th Street, SW, Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334 and 336.

§ 73.202 [Amended]

2. Section 73.202(b), the Table of FM Allotments under Montana, is amended by adding Park City, Channel 223C0, by removing Channel 223C at Miles City and adding Channel 222C at Miles City.

3. Section 73.202(b), the Table of FM Allotments under Wyoming, is amended by adding Byron, Channel 221C, and by removing Channel 233C at Powell.

Federal Communications Commission.
John A. Karousos,
Assistant Chief, Audio Division, Office of Broadcast License Policy, Media Bureau.

[FR Doc. 02-10837 Filed 5-1-02; 8:45 am]

BILLING CODE 6712-01-P